CHEMICAL SAFETY AND HAZARD INVESTIGATION BOARD

Guidelines for Ensuring and Maximizing the Quality, Objectivity, Utility, and Integrity of Disseminated Information

AGENCY: Chemical Safety and Hazard Investigation Board.

ACTION: Notice of availability of final guidelines.

SUMMARY: The Chemical Safety and Hazard Investigation Board (CSB) announces that its final Guidelines for Ensuring and Maximizing the Quality, Objectivity, Utility, and Integrity of Information Disseminated by the agency have been posted on the CSB Web site, http://www.csb.gov.

FOR FURTHER INFORMATION CONTACT: Christopher W. Warner, (202) 261-7600.

SUPPLEMENTARY INFORMATION: Section 515 of the Treasury and General Government Appropriations Act for Fiscal Year 2001 (Pub. L. 106-554) requires each Federal agency to publish guidelines for ensuring and maximizing the quality, objectivity, utility, and integrity of the information it disseminates. Agency guidelines must be based on government-wide guidelines issued by the Office of Management and Budget (OMB). In accordance with this statutory requirement and OMB instructions, the CSB has posted its final Information Quality Guidelines on the agency Web site (http://www.csb.gov) and is publishing this notice of availability. The CSB previously posted interim Information Quality Guidelines on its website and published a notice of their availability and request for comments in the Federal Register (68 FR 19968, April 23, 2003). No comments were received and the final Information Quality Guidelines are unchanged from the interim version.

The Guidelines describe the CSB's procedures for ensuring the quality of information that it disseminates and the procedures by which an affected person or entity may obtain correction of information disseminated by the CSB that does not comply with the Guidelines.

(Authority: Sec. 515, Pub. L. 106-554; 114 Stat. 2763).

Dated: August 8, 2003.
Raymond C. Porfiri,
Deputy General Counsel.

[FR Doc. 03-20704 Filed 8-13-03; 8:45 am]

BILLING CODE 6350-01-M